DEPARTMENT OF THE INTERIOR

Bureau of Land Management

[CACA 14340]

Notice of Proposed Withdrawal Extension and Opportunity for Public Meeting; California

AGENCY: Bureau of Land Management, Interior.

ACTION: Notice.

SUMMARY: The Forest Service has filed an application with the Bureau of Land Management (BLM) that proposes to extend the duration of Public Land Order (PLO) No. 6652 for an additional 20-year term. PLO No. 6652 withdrew 30 acres of National Forest System land from the mining laws, but not from other forms of disposition as may by law be authorized on National Forest System land or the mineral leasing laws to protect the Petersburg Administrative Site in Siskiyou County. This notice also gives an opportunity to comment on the proposed action and to request a public meeting.

DATES: Comments and requests for a public meeting must be received by June 28, 2007.

ADDRESSES: Comments and meeting requests should be sent to Duane Marti, BLM California State Office, 2800 Cottage Way, Sacramento, California 95825.

FOR FURTHER INFORMATION CONTACT: Duane Marti, BLM California State Office, (916) 978-4675, or at the above address and Jan Ford, Klamath National Forest, (530) 841-4483.

SUPPLEMENTARY INFORMATION: The withdrawal created by PLO No. 6652 (52 FR 27552) will expire on July 21, 2007, unless extended. The Forest Service has filed an application requesting the Secretary of the Interior to extend PLO No. 6652 for an additional 20-year term. The withdrawal was made to protect the Petersburg Administrative Site of the Forest Service on National Forest System land described as follows.

Klamath National Forest

Mount Diablo Meridian

T. 38 N., R. 11 W.,

Sec. 34, E½E½SW¼SW¼ and W½SE¼SW¼.

The area described contains 30 acres in Siskiyou County.

The purpose of the proposed extension is to continue the withdrawal created by PLO No. 6652 for an additional 20-year term to protect the Petersburg Administrative Site.

The use of a right-of-way, interagency, or cooperative agreement would not provide adequate protect of the Federal investment.

There are no suitable alternative sites as the land described contains permanent Federal facilities.

No additional water rights would be needed to fulfill the purpose of the requested withdrawal extension.

Records relating to the application may be examined by contacting Curt Hughes at the above address or 530-842-6131.

For a period of 90 days from the date of publication of this notice, all persons who wish to submit comments, suggestions, or objections in connection with the proposed extension may present their views in writing to the Forest Supervisor, Klamath National Forest, at the address noted above.

Comments, including names and street addresses of respondents, will be available for public review at the BLM California State Office, 2800 Cottage Way, Sacramento, California 95825 and the Klamath National Forest Office, 1312 Fairlane Road, Yreka, California 96097, during regular business hours 8 a.m. to 4:30 p.m., Monday through Friday, except holidays. Before including your address, phone number, e-mail address, or other personal identifying information in your comment, be advised that your entire comment—including your personal identifying information—may be made publicly available at any time. While you can ask us in your comment to withhold from public review your personal identifying information, we cannot guarantee that we will be able to do so.

Notice is hereby given that an opportunity for a public meeting is afforded in connection with the proposed withdrawal extension. All interested persons who desire a public meeting for the purpose of being heard on the proposed extension must submit a written request to the Forest Supervisor, Klamath National Forest within 90 days from the date of publication of this notice. If the authorized officer determines that a public meeting will be held, a notice of the time and place will be published in the Federal Register at least 30 days before the scheduled date of the meeting.

This withdrawal extension proposal will be processed in accordance with the regulations set forth in 43 CFR 2310.4.

(Authority: 43 CFR 2310.3-1)

Dated: February 7, 2007.
J. Anthony Danna,
Deputy State Director, Natural Resources.

[FR Doc. E7-5877 Filed 3-29-07; 8:45 am]

BILLING CODE 3410-11-P